DEPARTMENT OF HEALTH AND HUMAN SERVICES

Centers for Disease Control and Prevention

Advisory Committee on Immunization Practices

In accordance with section 10(a)(2) of the Federal Advisory Committee Act (Pub. L. 92-463), the Centers for Disease Control and Prevention (CDC) announce the following Federal Committee meeting.

Name: Advisory Committee on Immunization Practices (ACIP).

Times and Dates: 9 a.m.-5:45 p.m., October 27, 2004; 8 a.m.-4:35 p.m., October 28, 2004.

Place: Atlanta Marriott Century Center, 2000 Century Boulevard, NE., Atlanta, Georgia 30345-3377.

Status: Open to the public, limited only by the space available.

Purpose: The committee is charged with advising the Director, CDC, on the appropriate uses of immunizing agents. In addition, under 42 U.S.C. 1396s, the committee is mandated to establish and periodically review and, as appropriate, revise the list of vaccines for administration to vaccine-eligible children through the Vaccines for Children (VFC) program, along with schedules regarding the appropriate periodicity, dosage, and contraindications applicable to the vaccines.

Matters To Be Discussed: The agenda will include discussions on influenza which includes a VFC vote on use of Live Attenuated Influenza Vaccine; proposed recommendations for use of quadrivalent meningococcal conjugate vaccine (MCV4); recommendations for use of Hepatitis A Vaccine; an update on implementation of strategy to eliminate Hepatitis B virus transmission; varicella epidemiology and future program goals, including consideration of 2 dose varicella vaccination; proposal for an evidenced based format for ACIP recommendations; consideration of revisions for the Harmonized Childhood Immunization schedule; revisions to the 2002 General Recommendations; discussion of smallpox vaccine safety; and working group and Departmental updates.

Agenda items are subject to change as priorities dictate.

Due to programmatic issues that had to be resolved, the Federal Register notice is being published less than fifteen days before the date of the meeting.

For Further Information Contact: Demetria Gardner, Epidemiology and Surveillance Division, National Immunization Program, CDC, 1600 Clifton Road, NE, (E-61), Atlanta, Georgia 30333, telephone 404/639-8096, fax 404/639-8616.

The Acting Director, Management Analysis and Services Office, has been delegated the authority to sign Federal Register notices pertaining to announcements of meetings and other committee management activities for both the CDC and ATSDR.

Dated: October 7, 2004.
B. Kathy Skipper,
Acting Director, Management Analysis and Services Office, Centers for Disease Control and Prevention.

[FR Doc. 04-22985 Filed 10-8-04; 9:19 am]

BILLING CODE 4163-18-P